DEPARTMENT OF ENERGY

Federal Energy Regulatory Commission

[Docket No. EG00-152-000, et al.]

Lone Star Steel Sales Company, et al.; Electric Rate and Corporate Regulation Filings

May 17, 2000.

Take notice that the following filings have been made with the Commission:

1. Lone Star Steel Sales Company

[Docket No. EG00-152-000]

Take notice that on May 15, 2000, Lone Star Steel Sales Company (LSSS), P.O. Box 803546, Dallas, Texas 75380, filed with the Federal Energy Regulatory Commission an application for determination of exempt wholesale generator status pursuant to part 365 of the Commission's regulations.

LSSS is a Delaware corporation with its principal place of business in Dallas, Texas. LSSS is engaged exclusively in the business of owning or operating an eligible facility selling electric energy at wholesale. The eligible facility consists of 15 MW of gas-fired generation located in Northeast Texas that is entirely within the certificated service area of Southwestern Electric Power Company (SWEPCO).

Comment date: June 7, 2000, in accordance with Standard Paragraph E at the end of this notice. The Commission will limit its consideration of comments to those that concern the adequacy or accuracy of the application.

2. Twelvepole Creek, LLC

[Docket No. EG00-153-000]

Take notice that on May 15, 2000, Twelvepole Creek, LLC, with its principal place of business c/o Columbia Electric Company, 13880 Dulles Corner Lane, Herndon, VA, 20171, filed with the Federal Energy Regulatory Commission an application for determination of exempt wholesale generator status pursuant to Part 365 of the Commission's regulations. Twelvepole Creek, LLC intends to construct, own or lease, and operate an approximately 504 MW natural gas-fired generating facility located in Wayne County, West Virginia. All output from the facility will be sold at wholesale.

Comment date: June 7, 2000, in accordance with Standard Paragraph E at the end of this notice. The Commission will limit its consideration of comments to those that concern the adequacy or accuracy of the application.

3. MidAmerican Energy Company

[Docket No. EL99-92-002]

Take notice that on May 11, 2000, MidAmerican Energy Company (MidAmerican), 666 Grand Avenue, 2900 Ruan Center, Des Moines, Iowa 50309 tendered for filing a Refund Report as required by the March 17, 2000 Letter Order in Docket No. EL99-92-000.

MidAmerican states that the last billings at non-settlement rates were rendered for the month of February 2000 and that all subsequent billings have been based on the settlement rates and charges approved by the Letter Order. MidAmerican further states that interest on the refunds was calculated in accordance with 18 CFR 35.19a and that all refunds with interest required to be paid pursuant to the Letter Order were transmitted electronically to customers on April 28, 2000.

Copies of the filing were served on all parties to Docket Nos. EL99-92-000 and ER99-3887-000.

Comment date: June 12, 2000, in accordance with Standard Paragraph E at the end of this notice.

4. Lyon Rural Electric Cooperative

[Docket No. ES00-34-000]

Take notice that on May 10, 2000, Lyon Rural Electric Cooperative (Lyon) filed an application pursuant to Section 204 of the Federal Power Act seeking authorization to borrow money under a long-term loan agreement in the form of secured promissory notes in an amount not to exceed $2,400,000. Lyon seeks authorization to borrow money under a short-term line of credit agreement in the form of promissory notes in an amount not to exceed $900,000. Lyon requests authorization for the long-term loan agreement and the short-term line of credit over a two-year period commencing June 30, 2000.

Lyon also seeks a waiver of the Commission’s competitive bidding and negotiated placement requirements of 18 CFR 34.2 regarding both the long-term loan agreement and the short-term line of credit.

Comment date: June 7, 2000, in accordance with Standard Paragraph E at the end of this notice.

5. Northwestern Corporation

[Docket No. ES00-35-000]

Take notice that on May 8, 2000, Northwestern Corporation filed an application pursuant to Section 204 of the Federal Power Act seeking authorization to issue

(i) not more than 5,000,000 shares of its Common Stock, par value $1.75 per share, including related Common Stock Purchase Rights; and

(ii) not more than $140,000,000 of its mortgage bonds, notes, debentures, subordinated debentures, guarantees or other evidences of indebtedness.

NorthWestern also requests an exemption from the Commission's competitive bidding and negotiated placement requirements of 18 CFR 34.2.

Comment date: June 7, 2000, in accordance with Standard Paragraph E at the end of this notice.

6. Electric Energy, Inc.

[Docket No. ES00-36-000]

Take notice that on May 11, 2000, Electric Energy, Inc. submitted an application pursuant to the Federal Power Act seeking authorization to issue from time to time (a) not more than $120 million of new long-term debt with a maturity of up to 15 years, and (b) new short-term debt in an amount not to exceed $70 million at any time.

Comment date: June 7, 2000, in accordance with Standard Paragraph E at the end of this notice.

7. Kansas Gas and Electric Company

[Docket No. ES00-37-000]

Take notice that on May 11, 2000, Kansas Gas and Electric Company submitted an application pursuant to Section 204 of the Federal Power Act seeking authorization to (1) issue not more than $1 billion of short-term securities on or before December 31, 2002, and (2) pledge first mortgage bonds in an aggregate principal amount not to exceed $1.0 billion at any one time outstanding to secure such short-term indebtedness.

Kansas Gas and Electric Company also requests a waiver from the Commission's competitive bidding and negotiated placement requirements of 18 CFR 34.2 with regards to the issuance of short-term securities.

Comment date: June 7, 2000, in accordance with Standard Paragraph E at the end of this notice.

8. Kansas Gas and Electric Company

[Docket No. ES00-38-000]

Take notice that on May 11, 2000, Kansas Gas and Electric Company submitted an application pursuant to Section 204 of the Federal Power Act seeking authorization to pledge not more than $1 billion of first mortgage bonds and guaranties to secure short-term indebtedness of its parent, Western Resources, Inc.

Comment date: June 7, 2000, in accordance with Standard Paragraph E at the end of this notice.

9. Western Resources, Inc.

[Docket No. ES00-39-000]

Take notice that on May 11, 2000, Western Resources, Inc. submitted an application pursuant to Section 204 of the Federal Power Act seeking authorization to (1) issue not more than $1.5 billion in short-term securities on or before December 31, 2002, and (2) pledge first mortgage bonds in an aggregate principal amount not to exceed $1.5 billion to secure such short-term indebtedness.

Western Resources, Inc. also requests a waiver of the Commission's competitive bidding and negotiated placement requirements of 18 CFR 34.2 with regards to the issuance of short-term securities.

Comment date: June 7, 2000, in accordance with Standard Paragraph E at the end of this notice.

Standard Paragraphs

E. Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/ online/rims.htm (call 202-208-2222 for assistance).

Linwood A. Watson, Jr.,
Acting Secretary.

[FR Doc. 00-13217 Filed 5-25-00; 8:45 am]

BILLING CODE 6717-01-P